DEPARTMENT OF JUSTICE

Notice of Lodging of Consent Decree Under the Clean Air Act, Clean Water Act, and the Resource Conservation and Recovery Act

On November 20, 2013, the Department of Justice lodged a proposed consent decree with the United States District Court for the Central District of Illinois in the lawsuit entitled United States v. PolyOne Corporation, Civil Action No.13-cv-01550.

The consent decree resolves the claims of the United States and the State of Illinois under the Clean Air Act, the Clean Water Act, the Resource Conservation and Recovery Act, and relevant state law at facilities formerly owned by PolyOne Corporation (“PolyOne”) in Pedricktown, New Jersey and Henry, Illinois. Under the consent decree, PolyOne will pay a civil penalty of $280,000, of which $35,000 will be paid to the State of Illinois, and implement Supplemental Environmental Projects valued at $800,000. The decree also contains injunctive relief provisions relating to both facilities. These injunctive provisions are binding on Mexichem Specialty Resins Inc., which is the current owner of the facilities and a signatory to the Consent Decree.

The publication of this notice opens a period for public comment on the consent decree. Comments should be addressed to the Assistant Attorney General, Environment and Natural Resources Division, and should refer to United States v. PolyOne Corporation, D.J. Ref. No. 90-5-2-1-08917. All comments must be submitted no later than thirty (30) days after the publication date of this notice. Comments may be submitted either by email or by mail:

To submit comments: | Send them to:
By email | pubcomment-ees.enrd@usdoj.gov.
By mail | Assistant Attorney General; U.S. DOJ—ENRD; P.O. Box 7611; Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $11.25 (25 cents per page reproduction cost for the 45 page proposed Consent Decree) payable to the U.S. Treasury. If you would also like a copy of the attachments to the proposed Consent Decree, please so note and include an additional $7.25 (25 cents per page for the 29 pages of attachments).

Robert E. Maher, Jr.,
Assistant Section Chief, Environmental Enforcement Section, Environment and Natural Resource Division.

[FR Doc. 2013-28463 Filed 11-26-13; 8:45 am]

BILLING CODE 4410-15-P